DEPARTMENT OF TRANSPORTATION

Federal Aviation Administration

Availability of Final Environmental Impact Statement and Final Air Quality Conformity Determination for Los Angeles International Airport, Los Angeles, Los Angeles County, CA

AGENCY: Federal Aviation Administration.

ACTION: Notice of Availability of Final Environmental Impact Statement and Final General Conformity Determination.

SUMMARY: The Federal Aviation Administration (FAA) along with the Federal Highway Administration is issuing this notice to advise the public that a Final Environmental Impact Statement (EIS) and Final General Conformity Determination has been prepared for the proposed Master Plan Improvements at Los Angeles International Airport (LAX), Los Angeles, Los Angeles County, California. FAA is seeking comments on revised and updated information and analyses disclosed in Volume A of the Final EIS and related appendices (Appendices A-1, A-2a, A-2b, A-3a, A-3b, A-3c, A-3d, and A-4).

FOR FURTHER INFORMATION CONTACT: David B. Kessler, AICP, Regional Environmental Protection Specialist, AWP-611, Airports Division, Federal Aviation Administration, Western-Pacific Region, P.O. Box 92007, Los Angeles, California 90009-2007, Telephone: 310/725-3615. Comments on Volume A of the Final EIS and associated appendices must be submitted to the address above and must be received no later than 5 p.m. Pacific standard time, Tuesday, February 22, 2005.

SUPPLEMENTARY INFORMATION: The Federal Aviation Administration (FAA) as lead agency and the Federal Highway Administration, as a cooperating agency has prepared a Final Environmental Impact Statement (EIS) for the proposed Master Plan Improvements at Los Angeles International Airport (LAX). FAA has also prepared its Final General Conformity Determination for Alternative D of the LAX Master Plan. The need to prepare an EIS is based on the procedures described in FAA Order 5050.4A, Airport Environmental Handbook. LAX is located in Los Angeles, Los Angeles County, California. FAA, in conjunction with Los Angeles World Airports (LAWA), a unit of the City of Los Angeles government that is responsible for management of City-owned airports published a joint Draft EIS/Environmental Impact Report (EIR) in January 2001. The Draft EIS/EIR was prepared by FAA pursuant to the National Environmental Policy Act of 1969 and by LAWA pursuant to the California Environmental Policy Act of 1970 (CEQA). The Draft EIS/EIR assessed the potential impacts of three proposed Master Plan development alternatives (Alternatives A, B, and C) and the No Action/No Project Alternative. Pursuant to NEPA and CEQA, in July 2003, the FAA and LAWA published a joint Supplement to the Draft EIS/EIR to address the potential impacts of a new LAX Master Plan Alternative (Alternative D). In April 2004, LAWA issued a Final EIR for use in the local decision-making process.

Information and analyses have been updated and/or refined for purposes of the Final EIS to comply with particular aspects of Federal law and regulation. That information and analysis is presented in a separate volume, entitled Volume A, and related appendices (Appendices A-1, A-2a, A-2b, A-3a, A-3b, A-3c, A-3d, and A-4), of the Final EIS. FAA will accept comments on the information disclosed in Volume A and its associated appendices until 5 p.m. Pacific Standard Time, Tuesday, February 22, 2005.

FAA will not make a decision on the Proposed Action for a minimum of 30-days following publishing the Notice of Availability of the Final EIS (40 CFR 1506.10) in the Federal Register. FAA will record the appropriate decision or decisions in a Record of Decision.

The FAA is also announcing the availability of its Final General Conformity Determination for Alternative D of the LAX Master Plan.

Copies of the Final EIS and the Final General Conformity Determination are available for public review at the following locations during normal business hours:

U.S. Department of Transportation, Federal Aviation Administration, Western-Pacific Region, Office of the Airports Division, 15000 Aviation Boulevard, Hawthorne, California 90261;

U.S. Department of Transportation, Federal Aviation Administration, National Headquarters, Community and Environmental Needs Division, 800 Independence Avenue, SW., Washington, DC 20591; and

Administrative Offices of Los Angeles World Airports, One World Day, Los Angeles, California.

The documents are also available at the following libraries:

County of Orange Public Library Admin. Headquarters 1501 E. Saint Andrew Place, Santa Ana, CA 92701;

County of Riverside Public Library, 3581 Mission Inn Avenue, Riverside, CA 92501;

County of San Bernardino, 104 W. Fourth Street, San Bernardino, CA 92415;

County of Ventura Public Library, 651 East Main Street, Ventura, CA 93001;

City of Los Angeles Central Library, 630 W. Fifth Street, Los Angeles, CA 90071;

Arroyo Seco Regional Branch Library 6145 N. Figueroa Street, Los Angeles, CA 90042;

Eagle Rock Library 5027 Caspar Avenue, Los Angeles, CA 90041;

Exposition Park Library, 3665 S. Vermont Avenue Los Angeles, CA 90007;

Frances Howard Goldwyn Library, 1623 N. Ivar Avenue, Hollywood, CA 90028;

San Pedro Regional Branch Library, 931 S. Gaffey Street, San Pedro, CA 90731;

Mar Vista Branch Library, 12006 Venice Blvd., Los Angeles, CA 90066;

Mid-Valley Regional Branch Library, 16244 Nordhoff Street, North Hills, CA 91343;

North Hollywood Regional Library, 5211 Tujunga Avenue, North Hollywood, CA 91601;

Venice Abbott Kinney Library, 501 South Venice Blvd., Venice, CA 90291;

Westchester Branch Library, 7114 W. Manchester Avenue, Los Angeles, CA 90045;

West L.A. Regional Branch Library, 11360 Santa Monica Blvd. Los Angeles, CA 90025;

West Valley Regional Branch Library, 19036 Vanowen Street, Reseda, CA 91335;

Compton Library, 240 W. Compton Blvd. Compton, CA 90220;

Carson Regional Library, 151 E. Carson Street, Carson, CA 90745;

Claremont Library, 208 N. Harvard Avenue, Claremont, CA 91711;

Culver City Library, 4975 Overland Avenue, Culver City, CA 90230;

El Monte Library, 3224 Tyler Avenue, El Monte, CA 91731;

El Segundo Public Library, 111 W. Mariposa Avenue, El Segundo, CA 90245;

Hacienda Heights Library, 16010 La Monde Street, Hacienda Heights, CA 91745;

Hawthorne Library, 12700 Grevillea Avenue, Hawthorne, CA, 90250;

Hermosa Beach Library, 550 Pier Avenue, Hermosa Beach, 90254;

Inglewood Library, 101 W. Manchester Blvd., Inglewood, CA 90301;

Lancaster Library, 601 West Lancaster Blvd., Lancaster, CA 93534;

Lennox Library, 4359 Lennox Blvd., Lennox, CA 90304;

Lomita Library, 24200 Narbonne Avenue, Lomita, CA 90717;

Beverly Hills Library, Reference Desk, 444 N. Rexford Drive Beverly Hills, CA 90210;

Helen Miller Bailey Library, 1301 Avenida Cesar Chavez, Monterey Park, CA 91754;

Gardena Main Library, 1731 W. Gardena Blvd. Gardena, CA 90247;

Huntington Park Library, 6518 Miles Avenue, Huntington Park, CA 90255;

Lawndale Library, 14615 Burin Avenue Lawndale, CA 90260;

Malibu Library, 23519 West Civic Center Way, Malibu, CA 90265;

Manhattan Beach Library, 1320 Highland Avenue, Manhattan Beach, CA 90266;

Lloyd Taber Marina Del Rey Library, 4533 Admiralty Way, Marina Del Rey, CA 90292;

Montebello Library, 1550 West Beverly Blvd., Montebello, CA 90640;

Mt. San Antonio College Library, 1100 N. Grand Avenue, Walnut, CA 91789;

Palmdale Library, 700 E. Palmdale Blvd. Palmdale, CA 93550;

Redondo Beach Library, 303 N. Pacific Coast Highway, Redondo Beach, CA, 90277;

San Dimas Library, 145 North Walnut Avenue, San Dimas, CA 91773;

Santa Monica Library, 1324 Fifth Street, Santa Monica, CA 90401;

Torrance Civic Center Library, 3301 Torrance Blvd. Torrance, CA 90503;

View Park Library, 3854 West 54th Street, Los Angeles, CA 90043;

West Hollywood Library, 715 N. San Vicente Blvd., West Hollywood, CA 90069;

Willowbrook Library, 11838 Wilmington Avenue, Los Angeles, CA 90059;

Wiseburn Library, 5335 West 135th Street, Hawthorne, CA 90250;

Woodcrest Library, 1340 West 106th Street, Los Angeles, CA 90044; and

UCLA Young Research Library, 280 E. Charles Young Drive, Los Angeles, CA 90095.

The Final EIS will be available for public review for 30-days. Written comments on Volume A of the Final EIS should be submitted to the address above under the heading For Further Information Contact and must be received no later than 5 p.m. Pacific standard time, Tuesday, February 22, 2005.

Issued in Hawthorne, California on January 13, 2005.
Mark A. McClardy,
Manager, Airports Division, Western—Pacific Region, AWP-600.

[FR Doc. 05-1159 Filed 1-19-05; 8:45 am]

BILLING CODE 4910-13-M